DEPARTMENT OF AGRICULTURE

Food Safety and Inspection Service

9 CFR Parts 303, 317, 319, and 381

[Docket No. FSIS-2011-0024]

RIN 0583-AB02

Food Ingredients and Sources of Radiation Listed or Approved for Use in the Production of Meat and Poultry Products; Technical Amendment

AGENCY: Food Safety and Inspection Service, USDA.

ACTION: Final rule; technical amendment.

SUMMARY: This document contains technical amendments to the final labeling regulations that were published in the Federal Register on December 23, 1999. The regulations related to harmonizing and improving the efficiency of the procedures used by the Food Safety and Inspection Service (FSIS) and the Food and Drug Administration (FDA) for reviewing and listing the food ingredients and sources of radiation listed or approved for use in the production of meat and poultry products.

DATES: December 30, 2011.

FOR FURTHER INFORMATION CONTACT: Victoria Levine, Program Analyst, Policy Issuance Division, Office of Policy and Program Development, Food Safety and Inspection Service, U.S. Department of Agriculture, Washington, DC 20250; (202) 720-5627; Fax (202) 690-0486.

SUPPLEMENTARY INFORMATION:

Background

The regulations that are the subject of these technical amendments were published on December 23, 1999, in a final rule titled “Food Ingredients and Sources of Radiation Listed or Approved for Use in the Production of Meat and Poultry Products” (64 FR 72168). Among other things, this final rule consolidated various existing regulations on food ingredients and sources of radiation into a single new part, 9 CFR part 424, applicable to both meat and poultry establishments. Specifically, it combined the separate listings of food ingredients approved for use in meat and poultry products contained in 9 CFR 318.7 and 9 CFR 381.147 into a single table (9 CFR 424.21(c)). FSIS then removed §§ 318.7 and 381.147 from the meat and poultry products inspection regulations. The Agency did not, however, replace all of the references to §§ 318.7 and 381.147 contained in the meat and poultry product inspection regulations with a reference to § 424.21(c), the correct citation.

As published, the final regulations contain this error in several locations and thus needs to be corrected. Therefore, FSIS is replacing all references to §§ 318.7 and 381.147 contained in the meat and poultry product inspection regulations with a reference to the correct section, § 424.21(c).

List of Subjects in 9 CFR Parts 303, 317, 319, and 381

Food grades and standards, Food labeling, Food packaging, Meat inspection, Poultry products.

Accordingly, 9 CFR parts 303, 317, 319, and 381 are corrected by making the following correcting amendments:

PART 303—EXEMPTIONS

1. The authority citation for part 303 continues to read as follows:

Authority: 21 U.S.C. 601-695; 7 CFR 2.17, 2.55.

2. In § 303.1, revise paragraph (b)(1) of to read as follows:

§ 303.1 Exemptions.

* * * * *

(b)(1) The exempted custom prepared products shall be prepared and handled in accordance with the provisions of §§ 318.5, 318.6, 318.10, 381.300 through 318.311 of this subchapter and § 424.21 of subchapter E, and shall not be adulterated as defined in paragraph 1(m) of the Act. The provisions of §§ 318.5, 318.6, 318.10, and 318.300 through 318.311 related to inspection or supervision of specified activities or other action by an inspection program employee and the provisions of § 318.6(b)(9) and (10) shall not apply to the preparation and handling of such exempted products.

* * * * *

PART 317—LABELING, MARKING DEVICES, AND CONTAINERS

3. The authority citation for part 317 continues to read as follows:

Authority: 21 U.S.C. 601-695; 7 CFR 2.18, 2.53.

4. In § 317.2, revise paragraph (f)(1)(vi)(B) to read as follows:

§ 317.2 Labels: definition; required features.

* * * * *

(f) * * *

(1) * * *

(vi) * * *

(B) Such ingredients may be adjusted in the product formulation without a change being made in the ingredients statement on the labeling, provided that the adjusted amount complies with part 319 of this subchapter and with § 424.21 of subchapter E, and does not exceed the amount shown in the quantifying statement. Any such adjustments to the formulation shall be provided to the inspector-in-charge.

* * * * *

PART 319—DEFINITIONS AND STANDARDS OF IDENTITY OR COMPOSITION

5. The authority citation for part 319 continues to read as follows:

Authority: 7 U.S.C. 450, 1901-1906; 21 U.S.C. 601-695; 7 CFR 2.18, 2.53.

6. In § 319.181, revise the second and third sentences to read as follows:

§ 319.181 Cheesefurters and similar products.

* * * They may contain binders and extenders as provided in § 424.21(c) of subchapter E. Limits on use as provided in § 424.21 are intended to be exclusive of the cheese constituent. * * *

7. In § 319.281, revise the first sentence of paragraph (b)(9) to read as follows:

§ 319.281 Bockwurst.

* * * * *

(b) * * *

(9) Binders and extenders may be added as provided in § 424.21(c) of subchapter E. * * *

* * * * *

8. R In § 319.300, revise the last sentence to read as follows:

§ 319.300 Chili con carne.

* * * The mixture may contain binders and extenders as provided in § 424.21(c) of subchapter E.

9. In § 319.301, revise the last sentence to read as follows:

§ 319.301 Chili con carne with beans.

* * * The mixture may contain binders and extenders as provided in § 424.21(c) of subchapter E.

10. In § 319.306, revise the last sentence to read as follows:

§ 319.306 Spaghetti with meatballs and sauce, spaghetti with meat and sauce, and similar products.

* * * Meatballs may be prepared with farinaceous material and with other binders and extenders as provided in § 424.21(c) of subchapter E.

PART 381—POULTRY PRODUCTS INSPECTION REGULATIONS

11. The authority citation for part 381 continues to read as follows:

Authority: 7 U.S.C. 138f, 450; 21 U.S.C. 451-470; 7 CFR 2.7, 2.18, 2.53.

12. In § 381.118, revise the first sentence in paragraph (a)(2)(ii) to read as follows:

§ 381.118 Ingredients statement.

* * * * *

(a) * * *

(2) * * *

(ii) Such ingredients may be adjusted in the product formulation without a change being made in the ingredients statement on the labeling, provided that the adjusted amount complies with subpart P of this part and § 424.21(c) of subchapter E, and does not exceed the amount shown in the quantifying statement. * * *

* * * * *

13. In § 381.129, revise paragraph (d) to read as follows:

§ 381.129 False or misleading labeling or containers.

* * * * *

(d) When sodium alginate, calcium carbonate, lactic acid, and calcium lactate are used together in a dry binding matrix in ground or formed poultry products, as permitted in § 424.21(c) of subchapter E, there shall appear on the label contiguous to the product name a statement to indicate the use of sodium alginate, calcium carbonate, lactic acid, and calcium lactate.

* * * * *

14. In § 381.133,revise paragraph (b)(9)(xviii) to read as follows:

§ 381.133 Generically approved labeling.

* * * * *

(b) * * *

(9) * * *

(xviii) Changes reflecting a change in the quantity of an ingredient shown in the formula without a change in the order of predominance shown on the label, provided that the change in the quantity of ingredients complies with any minimum or maximum limits for the use of such ingredients prescribed in subpart P of this part and § 424.21(c) of subchapter E;

* * * * *

Done in Washington, DC, on December 23, 2011.
Alfred V. Almanza,
Administrator.

[FR Doc. 2011-33427 Filed 12-29-11; 8:45 am]

BILLING CODE 3410-DM-P